ENVIRONMENTAL PROTECTION AGENCY

[FRL-7103-3]

Agency Information Collection Activities: Proposed Collection; Comment Request; Information Requirements for Locomotives and Locomotive Engines

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Information Requirements for Locomotives and Locomotive Engines, OMB Control Number 2060-0392, EPA ICR Number 1800.02, expiration date, December 31, 2001. The ICR describes the nature of the information collection and its expected burden and cost; where appropriate, it includes the actual data collection instrument.

DATES: Comments must be submitted on or before December 14, 2001.

ADDRESSES: Send comments, referencing EPA ICR No. 1800.02 and OMB Control No. 2060-0392 to the following addresses: Susan Auby, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by e-mail at auby.susan@epa.gov, or download off the Internet at http://www.epa.gov/icr and refer to EPA ICR No. 1800.02. For technical questions about the ICR contact: Nydia Yanira Reyes-Morales, tel.: (202) 564-9264; fax: (202) 565-2057; or e-mail: reyes-morales.nydia@epa.gov.

SUPPLEMENTARY INFORMATION: Title: Information Requirements for Locomotives and Locomotive Engines, OMB Control Number 2060-0392, EPA ICR Number 1800.02, expiration date: December 31, 2001. This is a request for extension of a currently approved collection.

Abstract: The Clean Air Act requires manufacturers and remanufacturers of locomotives and locomotive engines to obtain a certificate of conformity with applicable emission standards before they can legally introduce their products into commerce. To apply for a certificate of conformity, respondents are required to submit descriptions of their planned production, including detailed descriptions of emission control systems and test data. This information is organized by “engine family” groups expected to have similar emission characteristics and is submitted every year, at the beginning of the model year. Respondents electing to participate in the Averaging, Banking and Trading (AB&T) Program are also required to submit information regarding the calculation, actual generation and usage of credits in quarterly reports, and an end-of-the-year report. Under the Production-line Testing (PLT) Program, manufacturers are required to test a sample of engines as they leave the assembly line. The Installation Audit Program requires remanufacturers to audit the installation of a sample of remanufactured engines. These self-audit programs (collectively referred to as the “PLT Program”) allow manufacturers and remanufacturers to monitor compliance with statistical certainty and minimize the cost of correcting errors through early detection. Under the In-use Testing Program, manufacturers and remanufacturers are required to test locomotives after a number of years of use to verify that they comply with emission standards throughout their useful lives. There are recordkeeping requirements in all programs.

Confidentiality of proprietary information is granted in accordance with the Freedom of Information Act, EPA regulations at 40 CFR 2, and class determinations issued by EPA's Office of General Counsel.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 8, 2001, (66 FR 89). No comments were received.

Burden Statement: The annual public reporting and recordkeeping burden associated with the certification program is estimated to average 203 hours per manufacturer and 159 per remanufacturer. Respondents electing to participate in the AB&T program spend 278 hours per year on average. The annual burden associated with participation in the PLT Program is 183 hours for manufacturers and 155 for remanufacturers. In-use testing burden is 155 hours for manufacturers and 60 hours for remanufacturers. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Locomotives and locomotive engine manufacturers and remanufacturers.

Estimated Number of Respondents: 7.

Frequency of Response: Annually and Quarterly.

Estimated Total Annual Hour Burden: 11,121 hours.

Estimated Total Annualized Capital, O&M Cost Burden: $388,158.

Send comments on the Agency's need for this information, the accuracy of the provided burden estimates, and any suggested methods for minimizing respondent burden, including through the use of automated collection techniques, to the addresses listed above. Please refer to EPA ICR No. 1800.02 and OMB Control No. 2060-0392 in any correspondence.

Dated: October 30, 2001.
Oscar Morales,
Director, Collection Strategies Division.

[FR Doc. 01-28521 Filed 11-13-01; 8:45 am]

BILLING CODE 6560-50-P